DEPARTMENT OF COMMERCE

International Trade Administration

[A-201-836]

Light-Walled Rectangular Pipe and Tube From Mexico; Final Results of Antidumping Duty Administrative Review

AGENCY: Import Administration, International Trade Administration, Department of Commerce.

DATES: Effective Date: January 12, 2012.

SUMMARY: On September 7, 2011, the Department of Commerce (the Department) published the preliminary results of the administrative review of the antidumping duty order on light-walled rectangular pipe and tube from Mexico.¹ This administrative review covers two manufacturers/exporters and has a period of review (POR) from August 1, 2009, through July 31, 2010.

¹ See Light-Walled Rectangular Pipe and Tube from Mexico: Preliminary Results and Partial Rescission of Antidumping Duty Administrative Review, 76 FR 55352 (September 7, 2011) (Preliminary Results).

Based on our analysis of the comments received on the preliminary results, we have made changes to the margin calculations for one company (Regiomontana de Perfiles y Tubos S.A. de C.V.) and, as a result, the final results of review differ from the preliminary results for this company. The final dumping margins for all reviewed companies are listed below in the section entitled “Final Results of Review.”

FOR FURTHER INFORMATION CONTACT: Brian Davis (Regiopytsa), Dena Crossland (Maquilacero), or Edythe Artman, AD/CVD Operations, Office 7, Import Administration, International Trade Administration, U.S. Department of Commerce, 14th Street and Constitution Avenue NW., Washington, DC 20230; telephone: (202) 482-7924, (202) 482-3362, or (202) 482-3931, respectively.

SUPPLEMENTARY INFORMATION:

Background

On September 7, 2011, the Department published the Preliminary Results. This second administrative review of the order covers sales of subject merchandise, as described in the “Scope of the Order” section below, made during the POR from August 1, 2009, through July 31, 2010. Although we named four companies in the notice of initiation for this review,² we only reviewed the sales of two companies—Maquilacero S.A. de C.V. (Maquilacero) and Regiomontana de Perfiles y Tubos S.A. de C.V. (Regiopytsa)—as we rescinded the review for two other companies. See Preliminary Results, 76 FR at 55353.

² See Initiation of Antidumping and Countervailing Duty Administrative Reviews and Requests for Revocation in Part, 75 FR 60076 (September 29, 2010) at 60077.

We invited parties to comment on the Preliminary Results and received case briefs from the respondent companies. None of the parties requested a hearing on the issues raised in comments.

Period of Review

The POR is August 1, 2009, through July 31, 2010.

Scope of the Order

The merchandise that is the subject of this order is certain welded carbon-quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this order is currently classified under the Harmonized Tariff Schedule of the United States (HTSUS) subheadings 7306.61.50.00 and 7306.61.70.60. While HTSUS subheadings are provided for convenience and Customs purposes, our written description of the scope of this order is dispositive.

Analysis of Comments Received

All issues raised in the case briefs by parties to this antidumping duty administrative review are addressed in the “Issues and Decision Memorandum for the Final Results of the Antidumping Duty Administrative Review of Light-Walled Rectangular Pipe and Tube from Mexico” from Christian Marsh, Deputy Assistant Secretary for Antidumping and Countervailing Duty Operations, to Paul Piquado, Assistant Secretary for Import Administration, dated January 4, 2012 (Issues and Decision Memorandum), which is hereby adopted by this notice. A list of all issues, which parties have raised and to which we have responded, is in the Issues and Decision Memorandum and is also attached to this notice as an appendix. The Issues and Decision Memorandum is a public document and is on file electronically via Import Administration's Antidumping and Countervailing Duty Centralized Electronic Service System (IA ACCESS). Access to IA ACCESS is available in the Central Records Unit (CRU), room 7046 of the main Department of Commerce building. In addition, a complete version of the Issues and Decision Memorandum can be accessed directly on the Internet at http://www.trade.gov/ia/. The signed Issues and Decision Memorandum and the electronic versions of the Issues and Decision Memorandum are identical in content.

Changes Since the Preliminary Results

Based on our analysis of the comments received, we have made one revision, a correction to the U.S. packing expense used to calculate Regiopytsa's margin. This change has been detailed in Regiopytsa's company-specific analysis memorandum, dated concurrently with this notice and on file electronically via IA ACCESS, as noted above. Specifically, we have revised the programming language in the U.S. Margin Program to convert Regiopytsa's U.S. packing expenses from Mexican pesos to U.S. dollars for purposes of calculating the foreign unit price in dollars. See Comment 2 of the Issues and Decision Memorandum.

Final Results of the Review

We determine that the following weighted-average dumping margins exist on light-walled rectangular pipe and tube from Mexico for the period August 1, 2009, through July 31, 2010:

Manufacturer or Exporter | Percentage margin
Maquilacero S.A. de C.V. | 0.80
Regiomontana de Perfiles y Tubos S.A. de C.V. | 3.20

Assessment Rates

The Department shall determine, and CBP shall assess, antidumping duties on all appropriate entries. In accordance with 19 CFR 351.212(b)(1), the Department normally calculates an assessment rate for each importer of the subject merchandise covered by the review. Because both Maquilacero and Regiopytsa reported the entered value for all U.S. sales, we have calculated importer-specific, ad valorem duty assessment rates based on the ratio of each importer's total amount of antidumping duties calculated for the examined sales to the total entered value of the sales for that importer. In the event an assessment rate is above de minimis (de minimis being less than 0.5 percent in a review), we will instruct CBP to assess duties on all entries of subject merchandise for that importer during the period from August 1, 2009, through July 31, 2010.

The Department clarified its “automatic assessment” regulation on May 6, 2003. See Antidumping and Countervailing Duty Proceedings: Assessment of Antidumping Duties, 68 FR 23954 (May 6, 2003) (Assessment Notice). This clarification will apply to entries of subject merchandise during the POR produced by companies included in these final results of review for which these companies did not know that the merchandise it sold to an intermediary was destined for the United States. In such instances, we will instruct CBP to liquidate non-reviewed entries at the all-others rate if there is no rate for the intermediate company(ies) involved in the transaction. For a full discussion of this clarification, see Assessment Notice.

Pursuant to 19 CFR 351.106(c)(2), we intend to instruct CBP to liquidate without regard to antidumping duties any entries for which the assessment rate is de minimis. The Department intends to issue assessment instructions directly to CBP 41 days after the publication of these final results of review.

Cash-Deposit Requirements

The following cash-deposit requirements will be effective upon publication of these final results of review for all shipments of the subject merchandise entered or withdrawn from warehouse for consumption on or after the date of publication, consistent with section 751(a)(1) of the Act: (1) The cash-deposit rates for the reviewed companies will be the rates listed above; (2) for previously-reviewed or investigated companies not covered in this review, the cash-deposit rate will continue to be the company-specific rate published for the most recent period; (3) if the exporter is not a firm covered in this review, a prior review, or the less-than-fair-value (LTFV) investigation but the manufacturer is, the cash-deposit rate will be the rate established for the manufacturer of the merchandise for the most recent period; and (4) the cash-deposit rate for all other manufacturers or exporters will continue to be 3.76 percent, the all-others rate published in the amended final determination of the LTFV investigation. See Notice of Amended Final Determination of Sales at Less Than Fair Value: Light-Walled Rectangular Pipe and Tube From Mexico, 73 FR 45400, 45401 (August 5, 2008).

These deposit requirements shall remain in effect until further notice.

Notifications to Interested Parties

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective orders (APOs) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act.

Dated: January 4, 2012.
Christian Marsh,
Acting Assistant Secretary for Import Administration.

Appendix

1. Offsetting of Negative Margins

2. U.S. Packing Expense Clerical Error

[FR Doc. 2012-492 Filed 1-11-12; 8:45 am]

BILLING CODE 3510-DS-P